ENVIRONMENTAL PROTECTION AGENCY

[IN 169-1; FRL-8224-2]

Approval of the Clean Air Act Section 112(l) Delegation of National Emission Standards for Hazardous Air Pollutants for Reinforced Plastic Composites Production; Indiana

AGENCY: Environmental Protection Agency (EPA).

ACTION: Notice.

SUMMARY: This document announces that, upon signature of this notice, EPA approved a request from the Indiana Department of Environmental Management (IDEM) for delegation of authority to implement and enforce the National Emission Standards for Hazardous Air Pollutants (NESHAP) for reinforced plastic composites production through a State rule which adjusts the maximum achievable control technology (MACT) standard for reinforced plastic composites production. Pursuant to the Clean Air Act (CAA) and the NESHAP provisions, states may seek approval of State rules which make pre-approved adjustments to a MACT standard if the State rule is unambiguously no less stringent than the Federal rule. On June 20, 2005, IDEM requested approval to adjust the NESHAP for reinforced plastic composites production. EPA reviewed this request and found that it satisfied the requirements for approval under the Federal provision which allows for delegation of an adjusted NESHAP, “Approval of State requirements that adjust a section 112 rule.” Therefore, upon the signature of this notice, EPA delegated to IDEM the authority to implement and enforce the NESHAP for reinforced plastic composites production, through IDEM's rule for reinforced plastic composites production.

ADDRESSES: The documents relevant to this action are available for public inspection during normal business hours at the following address: Environmental Protection Agency, Region 5, Air and Radiation Division, 77 West Jackson Boulevard, Chicago, Illinois 60604. This facility is open from 8:30 a.m. to 4:30 p.m., Monday through Friday, excluding Federal holidays. We recommend that you telephone Sam Portanova, Environmental Engineer, at (312) 886-3189 before visiting the Region 5 office.

FOR FURTHER INFORMATION CONTACT: Sam Portanova, Environmental Engineer, Air Permits Section, Air Programs Branch (AR-18J), Environmental Protection Agency, Region 5, 77 West Jackson Boulevard, Chicago, Illinois 60604, (312) 886-3189, portanova.sam@epa.gov.

SUPPLEMENTARY INFORMATION: Throughout this document whenever “we,” “us,” or “our” is used, we mean EPA. This supplementary information section is arranged as follows:

I. What Action Is EPA Taking?

II. Under What Authority Is EPA Approving This Delegation?

III. How Does 326 IAC 20-56 Meet the Requirements for Delegation?

IV. What Is the Effect of This Delegation?

I. What Action Is EPA Taking?

Pursuant to section 112(l) of the CAA and 40 CFR 63.92, EPA approved IDEM's request that EPA delegate the authority to implement and enforce 40 CFR part 63, subpart WWWW, NESHAP for reinforced plastic composites production, through Indiana rule 326 IAC 20-56, which adjusts the Federal reinforced plastic composites production MACT. This approval makes the Indiana rule, which is unambiguously no less stringent than the Federal MACT, federally enforceable in Indiana. EPA also approved the delegation of the applicable Category I authorities for this MACT standard as set forth at 40 CFR 63.91(g).

II. Under What Authority Is EPA Approving This Delegation?

Pursuant to CAA section 112(l), a State may develop and submit to EPA for approval a program for the partial or complete delegation of section 112 rules. EPA may approve State rules or programs which either: (1) Implement and enforce section 112 rules as promulgated by EPA (“straight delegation”); (2) implement and enforce State rules which adjust section 112 rules; (3) implement and enforce State rules which substitute for section 112 rules. The Federal regulations governing EPA's approval of State rules or programs under section 112(l) are located at 40 CFR part 63, subpart E.

Currently, IDEM has an EPA-approved program for the straight delegation of MACT standards. EPA approved IDEM's program of delegation for part 70 sources on November 14, 1995 (60 FR 57118). EPA approved IDEM's expansion of its program of delegation to non-part 70 sources on July 8, 1997 (62 FR 36460). Pursuant to the approved straight delegation program, EPA has approved the straight delegation of numerous MACT standards to IDEM (see 62 FR 36460 (7/8/1997), 65 FR 17264 (3/31/2000), 69 FR 22508 (4/26/2004), and 71 FR 2225 (1/13/2006)).

By letter dated June 20, 2005, IDEM requested approval of delegation of authority to implement and enforce 40 CFR part 63, subpart WWWW, the reinforced plastic composites production MACT, through a State rule which adjusts the MACT standard. The criteria for EPA's approval of State rules which adjust section 112 rules are set forth at 40 CFR 63.92. In general, adjustments to section 112 MACT standards must be unambiguously no less stringent than the Federal rule and be limited to certain pre-approved matters. More specifically, Section 63.92(b) requires that the State demonstrate the following: (1) The State program meets the criteria of section 63.91, which provides for the straight delegation of section 112 rules; (2) the public has had adequate notice and opportunity to submit written comment on the State requirements which adjust the section 112 rule; (3) the adjustment to the section 112 rule results in requirements that are unequivocally no less stringent than the Federal rule with respect to: (a) Applicability; (b) level of control for each affected source and emission point; (c) compliance and enforcement measures; (d) dates of compliance. Further, Section 63.92(b)(3) only allows certain pre-approved adjustments, including the following: (1) Lowering a required emission rate; (2) adding a design, work practice, operational standard; (3) increasing a required control efficiency; (4) increasing the frequency of required reporting, testing, sampling or monitoring.

If the above criteria are met, EPA will approve the delegation of a MACT standard through a State rule which adjusts the standard. Because EPA has previously noticed and provided opportunity for comment on the adjustment procedure, including the list of allowable adjustments, no further notice or opportunity for comment is required. See 58 FR 62262 (November 26, 1993). The delegation is effective upon the signature of the Federal Register notice. CAA section 63.92(a)(3). See 65 FR 55837 (September 14, 2000).

III. How Does 326 IAC 20-56 Meet the Requirements for Delegation?

IDEM's reinforced plastic composites production rule incorporates by reference the provisions of the Federal reinforced plastic composites production NESHAP. However, IDEM's rule adjusts the standard by adding certain provisions that are not included in the Federal reinforced plastic composites production NESHAP. As shown below, IDEM has demonstrated that its adjustments are unequivocally no less stringent than the Federal MACT provisions. The adjustments meet the criteria set forth in 40 CFR 63.92(b) for State rules which adjust a MACT standard.

A. The Reinforced Plastic Composites Production NESHAP

The reinforced plastic composites production MACT, which IDEM seeks to adjust, was proposed in the Federal Register on August 2, 2001 (66 FR 40323) and promulgated on April 21, 2003 (68 FR 19375). EPA published a rule amendment to this NESHAP on August 25, 2005 (70 FR 50117).

In general, the NESHAP for reinforced plastic composites production facilities regulates production and ancillary processes used to manufacture products with thermoset resins and gel coats.

B. How Does the State Program Meet the Requirements of 40 CFR 63.91?

40 CFR 63.92(b) provides that a State which seeks delegation of the authority to implement and enforce a Section 112 rule through a State rule which adjusts the Federal rule must first meet the criteria of 40 CFR 63.91(d). 40 CFR 63.91(d) sets forth the “up-front” approval requirements for the “straight” delegation of Federal MACT standards as promulgated. Once approved, a State need only reference the earlier approval of the criteria. Based on prior program submittals and approvals for IDEM's Title V air permit and Section 112 delegation program, IDEM has met the requirements specified in 40 CFR 63.91(d).

C. How Does the State Demonstrate that the Public Has Had Adequate Notice and Opportunity to Submit Written Comments on the State Requirements?

40 CFR 63.92(b)(1) requires that a State seeking delegation under this section demonstrate that the public has had adequate notice and opportunity to comment on the State requirements. Title 13 of the Indiana Code (IC) contains statutory requirements for the environmental rulemaking process. IC 13-14-9 specifies requirements for providing opportunities for public comment during this process. Opportunities for comment were made available through two published notices for comment and two public hearings. Therefore, IDEM has met the requirements of 40 CFR 63.92(b)(1).

D. How Does the State Demonstrate that the Adjustments Pertain to Certain Pre-Approved Matters and are Unequivocally No Less Stringent than the Federal Rule?

40 CFR 63.92(b)(2) requires that each State adjustment to a Federal Section 112 rule be unequivocally no less stringent than the Federal rule with respect to: Applicability; level of control for each affected source and emission point; compliance and enforcement measures; and compliance dates. Further, 40 CFR 63.92(b)(3) identifies those limited areas in which Federal Section 112 rules can be adjusted. Those limited adjustments include: Lowering a required emission rate; adding a design, work practice, operational standard, emission rate or other such requirement; increasing the frequency of required reporting, testing, sampling or monitoring.

IDEM incorporated by reference the provisions of 40 CFR Part 63, Subpart WWWW, as promulgated, except to add certain limited provisions which are allowable adjustments under 40 CFR 63.92(b)(3). As described below, IDEM has demonstrated that those provisions that were adjusted meet the criteria of 63.92(b)(2) and (3).

326 IAC 20-56-1 incorporates by reference 40 CFR part 63, subpart WWWW. 326 IAC 20-56-2 adds operator training requirements that are not included in the Federal NESHAP for sources subject to subpart WWWW. The training requirements apply to personnel involved in resin and gel coat spraying and applications that could result in excess emissions if performed improperly. This section also requires the maintenance of training records on site. These training requirements are the only rule adjustments to the Federal NESHAP. The provisions in 326 IAC 20-56-2 are more stringent than the Federal NESHAP and are acceptable as a rule adjustment.

IV. What Is the Effect of This Delegation?

On September 19, 2006, EPA approved IDEM's request to delegate the authority to implement and enforce 40 CFR part 63, subpart WWWW, through 326 IAC 20-56, which adjusts the reinforced plastic composites production MACT. EPA also approved the delegation of the applicable Category I authorities as set forth at 40 CFR section 63.91(g).

All notifications, reports and other correspondence required under 40 CFR, part 63, subpart WWWW, as adjusted by 326 IAC 20-56, should be sent to the State of Indiana, rather than to the EPA, Region 5, in Chicago. Affected sources should send this information to: Indiana Department of Environmental Management, Office of Air Management, 100 North Senate Avenue, P.O. Box 6015, Indianapolis, Indiana 46206-6015.

Pursuant to Section 112(l)(7) of the CAA, nothing in this delegation prohibits EPA from enforcing any applicable emission standard or requirement. The reinforced plastic composites production MACT, 40 CFR part 63, subpart WWWW, as adjusted by 326 IAC 20-56, is federally enforceable.

Authority: 42 U.S.C. 7401 et seq.

Date: September 19, 2006.
Gary Gulezian,
Acting Regional Administrator, Region 5.

[FR Doc. E6-15934 Filed 9-27-06; 8:45 am]

BILLING CODE 6560-50-P